DEPARTMENT OF HOUSING AND URBAN DEVELOPMENT

[Docket No. FR-4908-N-02]

Notice of Proposed Information Collection: Healthy Homes and Lead Hazard Control Programs

AGENCY: Office of Healthy Homes and Lead Hazard Control, HUD.

ACTION: Notice.

SUMMARY: The proposed information collection requirement described below will be submitted to the Office of Management and Budget (OMB) for review, as required by the Paperwork Reduction Act. The Department is soliciting public comments on the subject proposal.

DATES: Comments Due Date: December 13, 2004.

ADDRESSES: Interested persons are invited to submit comments regarding this proposal. Comments should refer to the proposal by name and/or OMB Control Number and should be sent to: Gail Ward, Reports Liaison Officer, Department of Housing and Urban Development, 451 7th Street, SW., Room P-3206, Washington, DC 20410.

FOR FURTHER INFORMATION CONTACT: Wayne Eddins, Reports Management Officer, Q, Department of Housing and Urban Development, 451 Seventh Street, Southwest, Washington, DC 20410; (202) 708-2374 (this is not a toll-free number). Hearing-or-speech-impaired persons may access the number above via TTY by calling the toll-free Federal Information Relay Service at 1-800-877-8339.

SUPPLEMENTARY INFORMATION: The Department will submit the proposed information collection to OMB for review, as required by the Paperwork Reduction Act of 1995 (44 U.S.C. Chapter 35, as amended).

This Notice is soliciting comments from members of the public and affecting agencies concerning the proposed collection of information to: (1) Evaluate whether the proposed collection of information is necessary for the proper performance of the functions of the agency, including whether the information will have practical utility; (2) evaluate the accuracy of the agency's estimate of the burden of the proposed collection of information; (3) enhance the quality, utility, and clarity of the information to be collected; and (4) minimize the burden of the collection of information on those who are to respond; including through the use of appropriate automated collection techniques or other forms of information technology, e.g., permitting electronic submission of responses.

This Notice also lists the following information:

Title of Proposal: Healthy Homes and Lead Hazard Control Programs.

OMB Control Number: 2539-0015.

Need For the Information and Proposed Use: This information collection is required in conjunction with the issuance of Notices of Funding Availability announcing the availability of approximately $150,000,000 for Healthy Homes and Lead Hazard Control Programs which are authorized under Title X of the Housing and Community Development Act of 1992, Pub. L. 102-550, section 1011, 42 U.S.C. 4852; the Housing and Urban Development Act of 1970, sections 501 and 502, 12 U.S.C. 1701z-1 and 1701z-2; and other legislation.

Agency Form Numbers: HUD 96008, HUD 96009, and the standard grant application forms: HUD 96010, SF 424, HUD 424B, HUD 424C, HUD 424CBW, HUD 27061, HUD 2880, HUD 2990, HUD 2991, HUD 2993, HUD 2994, SF LLL, SF 1199A, HUD 27054.

Members of Affected Public: Potential applicants include State, tribal, local governments, not-for-profit institutions and for-profit firms located in the U.S.

Total Burden Estimate
[First year]
Task | Number of respondents | Frequency of responses | Hours per response | Burden hours
Application Development | 250 | 1 | 80 | 20,000
Award of Grant | 80 | 1 | 16 | 1,280

Total Burden Hours: 21,280.

Status of the Proposed Information Collection: Revision.

Additional Information: The obligation to respond to this information collection is mandatory. Due to the improvements and simplification made to the reporting process, we expect the actual total burden hours to be substantially less than the estimated total burden hours.

Authority: Section 3506 of the Paperwork Reduction Act of 1995, 44 U.S.C. Chapter 35, as amended.

Dated: October 6, 2004.
Joseph F. Smith,
Deputy Director, Office of Healthy Homes and Lead Hazard Control.

[FR Doc. 04-22965 Filed 10-12-04; 8:45 am]

BILLING CODE 4710-70-M